DEPARTMENT OF HOUSING AND URBAN DEVELOPMENT

[Docket No. FR-5997-N-77]

30-Day Notice of Proposed Information Collection: Family Self-Sufficiency Program Demonstration

AGENCY: Office of the Chief Information Officer, HUD.

ACTION: Notice.

SUMMARY: HUD submitted the proposed information collection requirement described below to the Office of Management and Budget (OMB) for review, in accordance with the Paperwork Reduction Act. The purpose of this notice is to allow for an additional 30 days of public comment.

DATES: Comments Due Date: January 8, 2018.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION, CONTACT: Anna P. Guido, Reports Management Officer, QDAM, Department of Housing and Urban Development, 451 7th Street, SW., Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

The Federal Register notice that solicited public comment on the information collection for a period of 60 days was published on July 14, 2017 at 82 FR 32571.

A. Overview of Information Collection

Title of Information Collection: Family Self-Sufficiency Demonstration.

OMB Approval Number: 2528-0296.

Type of Request: Revision of a currently approved collection.

Form Number: No forms.

Description of the need for the information and proposed use: The Department is conducting this study under contract with MDRC and its subcontractor (M. Davis and Company, Inc.) and consultants. The project is an evaluation of the Family Self-Sufficiency (FSS) Program operated at Public Housing Agencies (PHAs) across the U.S. The study will use random assignment methods to evaluate the effectiveness of the program. FSS has operated since 1992 and serves voucher holders and residents of public housing. The FSS model is essentially case management plus an escrow account. FSS case managers create a plan with families to achieve goals and connect with services that will enhance their employment opportunities. Families accrue money in their escrow accounts as they increase their earnings.

To date, HUD has funded two other studies of the FSS program, but neither can tell us how well families would have done in the absence of the program. A random assignment model is needed because participant self-selection into FSS limits the ability to know whether program features rather than the characteristics of the participating families caused tenant income gains. Random assignment will limit the extent to which selection bias is driving observed results.

The demonstration underway will document the progress of a group of FSS participants from initial enrollment to program completion (or exit). The intent is to gain a deeper understanding of the program and illustrate strategies that assist participants to obtain greater economic independence. While the main objective of FSS is stable, suitable employment, there are many interim outcomes of interest, which include: Getting a first job; getting a higher paying job; self-employment/small business ownership; no longer needing benefits provided under one or more welfare programs; obtaining additional education, whether in the form of a high school diploma, higher education degree, or vocational training; buying a home; buying a car; setting up savings accounts; or accomplishing similar goals that lead to economic independence.

Data for this evaluation are being gathered through a variety of methods including informational interviews and discussions, direct observation, and focus groups. The work covered under this information request is for interviews with PHA staff, partners, and study participants receiving FSS services.

Respondents: For the annual web-based partnership survey and weekly time text survey, 100 respondents from the grantee and key project partner at 7 demonstration sites.

For the monthly web-based time survey, 35 supervisory staff.

Respondents:

PHA and Partner Staff | 90
Individuals receiving subsidized housing and enrolled in the FSS program (treatment group) | 90

Table 1
Information collection | Number of respondents | Frequency of response | Responses per annum | Burden hour per response | Annual burden hours | Hourly cost per response | Annual cost
Study Participant Interviews and/or Focus Groups | 90.00 | 1.00 | 90.00 | 1.50 | 135.00 | ¹ 7.25 | 978.75
PHA Staff Interviews (on-site) | 27.00 | 1.00 | 27.00 | 1.50 | 40.50 | ² 25.92 | 1,049.76
PHA Staff Interviews (telephone) | 18.00 | 1.00 | 18.00 | 1.50 | 27.00 | ² 25.92 | 699.84
Cost Study Data Collection Activities with PHA staff | 18.00 | 1.00 | 18.00 | 2.00 | 36.00 | ³ 35.97 | 1,294.92
FSS Partner Staff Interviews | 27.00 | 1.00 | 27.00 | 1.50 | 40.50 | ³ 35.97 | 1,456.79
Total | 180.00 |  |  |  | 279.00 |  | 5,480.06
¹ Households participating in the Family Self-Sufficiency Demonstration will range widely in employment position and earnings. We have estimated the hourly wage at the expected prevailing minimum wage, which is $7.25 per hour. While we expect about 50 percent of the participants to be employed at the time of study entry (based on a report by the Center on Budget and Policy Priorities, wherein some 55 percent of non-elderly, non-disabled households receiving voucher assistance reported earned income in 2010. (http://www.cbpp.org/cms/?fa=view&id=3634)), the calculation above assumes an up to amount if all participants were employed.
² For program staff participating in interviews, the $25.91 estimate uses the median hourly wages of selected occupations (classified by Standard Occupational Classification (SOC) codes) and was sourced from the Occupational Employment Statistics from the U.S. Department of Labor's Bureau of Labor Statistics. Potentially relevant occupations and their median hourly wages are:

Occupation | SOC code | Median hourly wage rate
Community and Social Service Specialist | 21-1099 | $20.73
Social/community Service Manager | 11-9151 | 31.10
Source: Occupational Employment Statistics, accessed online October 16, 2017 at http://www.bls.gov/oes/current/oes_stru.htm.
³ For program staff supporting data extraction activities and FSS Partner staff, the estimate uses the median hourly wages of selected relevant occupations in a manner similar to the above. A standard wage assumption of $35.97hr was created by averaging median hourly wage rates for these occupations:

Occupation | SOC code | Median hourly wage rate
Database Administrator | 15-1141 | $40.84
Social/community Service Manager | 11-9151 | 31.10
Source: Occupational Employment Statistics, accessed online October 16, 2017 at http://www.bls.gov/oes/current/oes_stru.htm.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including using appropriate automated collection techniques or other forms of information technology, e.g., permitting electronic submission of responses.

HUD encourages interested parties to submit comment in response to these questions.

Authority: Section 3507 of the Paperwork Reduction Act of 1995, 44 U.S.C. Chapter 35.

Dated: November 17, 2017.
Anna P. Guido,
Department Reports Management Officer, Office of the Chief Information Officer.

[FR Doc. 2017-26522 Filed 12-7-17; 8:45 am]

BILLING CODE 4210-67-P